DEPARTMENT OF AGRICULTURE

Forest Service

California Coast Provincial Advisory Committee

AGENCY: Forest Service, USDA.

ACTION: Notice of meeting.

SUMMARY: The California Coast Provincial Advisory Committee (PAC) will meet on November 21 and 22, 2002, in Ukiah, California. The purpose of the meeting is to discuss issues relating to implementing the Northwest Forest Plan.

DATES: The meeting will be held from 1 p.m. to 5 p.m. on November 21, 2002, and from 8:30 a.m. to 2:30 p.m. on November 22, 2002, at the Ukiah Valley Conference Center in Ukiah, CA.

ADDRESSES: The meeting will be held at the Chenin Blanc Room of the Ukiah Valley Conference Center, 200 South School Street, Ukiah, CA.

FOR FURTHER INFORMATION CONTACT: Phebe Brown, Committee Coordinator, USDA, Mendocino National Forest, 825 N. Humboldt Avenue, Willows, CA, 95988, (530) 934-1137; E-mail pybrown@fs.fed.us.

SUPPLEMENTARY INFORMATION: Agenda items to be covered include (1) Presentations on Mendocino and Six Rivers National Forests' Draft Roads Analysis Process reports; (2) Regional Ecosystem Office (REO) update; (3) Presentation on Survey and Manage Supplemental Environmental Impact Statement; (4) Update on planning for a Province fire ecology/fuels treatment workshop; (5) Aquatic Conservation Subcommittee report; (6) Finalize implementation monitoring reports; (7) Discussion of proposed timber harvest issue; (8) Northwest Forest Plan socio-economic monitoring; (9) 2003 committee meeting dates; (10) Reports from agencies and committee members; and (11) Public comment. The meeting is open to the public. Public input opportunity will be provided and individuals will have the opportunity to address the Committee at that time.

Dated: October 15, 2002.
James Fenwood,
Forest Supervisor.

[FR Doc. 02-27702 Filed 10-30-02; 8:45 am]

BILLING CODE 3410-11-M